SECURITIES AND EXCHANGE COMMISSION

[File No. 1-12878]

Issuer Delisting; Notice of Application of Time Warner Company, L.P., To Withdraw Its 7¼% Senior Debentures (due 2008) and Related Guarantees of Warner Communications Inc. and American Television and Communications Corporation, From Listing and Registration on the New York Stock Exchange, Inc.

September 22, 2003.

Time Warner Entertainment Company, L.P., a State of Delaware corporation (“Issuer”), has filed an application with the Securities and Exchange Commission (“Commission”), pursuant to section 12(d) of the Securities Exchange Act of 1934 (“Act”)¹ and Rule 12d2-2(d) thereunder,² to withdraw its 7¼% Senior Debentures (due 2003) and the related Guarantees of Warner Communications, Inc. (“WCI”) and American Television and Communications Corporation (“ATC”), each of which is a guarantor of the Debentures (“Securities”), from listing and registration on the New York Stock Exchange, Inc. (“NYSE” or “Exchange”).

¹ 15 U.S.C. 78l(d).

² 17 CFR 240.12d2-2(d).

The Issuer's General Partner approved resolutions on August 25, 2003, to withdraw the Issuer's Securities from listing on the NYSE. On September 9, 2003, the Board of Directors (“Board”) of each WCI and ATC approved resolutions related their guarantees.

In its application with the Commission, the Issuer stated the following with respect to its decision to withdraw the Security from the Exchange: The Securities are held by a small number of holders; there has been very little trading in the Securities on the NYSE in the 23-month period from September 2001 through July 2003, in the aggregate, only approximately $10 million principal amount of debentures were traded on the NYSE; the Issuer has four other debt securities outstanding, none of which is listed for trading on an exchange (all are actively traded in the over-the counter-market); the Issuer would prefer that all trading in its Securities occur in the over-the-counter market.

The Issuer stated in its application that it has complied with the NYSE's rules governing an issuer's voluntary withdrawal of a security from listing and registration. The Issuer's application relates solely to the Security's withdrawal from listing on the NYSE and from registration under section 12(b) of the Act ³ and shall not affect its obligation to be registered under section 12(g) of the Act.⁴

³ 15 U.S.C. 78l(b).

⁴ 15 U.S.C. 78l(g).

Any interested person may, on or before October 14, 2003, submit by letter to the Secretary of the Securities and Exchange Commission, 450 Fifth Street, NW., Washington, DC 20549-0609, facts bearing upon whether the application has been made in accordance with the rules of the NYSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 03-24377 Filed 9-25-03; 8:45 am]

BILLING CODE 8010-01-P